DEPARTMENT OF HOMELAND SECURITY

Federal Emergency Management Agency

[Docket ID FEMA-2013-0002]; [Internal Agency Docket No. FEMA-B-1352]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before March 24, 2014.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1352, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

I. Non-watershed-based studies:

Community | Community Map Repository Address
City of Virginia Beach, Virginia (Independent City)
Maps Available for Inspection Online at: http://www.fema.gov/preliminaryfloodhazarddata
City of Virginia Beach | Department of Public Works, 2405 Courthouse Drive, Municipal Center Building #2, Virginia Beach, VA 23456.
New Castle County, Delaware, and Incorporated Areas
Maps Available for Inspection Online at: http://www.fema.gov/preliminaryfloodhazarddata
City of Delaware City | City Hall, 407 Clinton Street, Delaware City, DE 19706.
City of New Castle | Public Works Building, 900 Wilmington Road, New Castle, DE 19720-3638.
City of Wilmington | Department of Licensing and Inspection, 800 North French Street, Wilmington, DE 19801.
Town of Middletown | Town Hall, 19 West Green Street, Middleton, DE 19709.
Town of Odessa | Town Hall, 315 Main Street, Odessa, DE 19730.
Town of Townsend | Town Hall, 661 South Street, Townsend, DE 19734.
Unincorporated Areas of New Castle County | New Castle County Land Use Department, 87 Reads Way, New Castle, DE 19720.
Sussex County, Delaware, and Incorporated Areas
Maps Available for Inspection Online at: http://www.fema.gov/preliminaryfloodhazarddata
City of Lewes | City Hall, 114 East 3rd Street, Lewes, DE 19958.
City of Milford | Planning Department, 201 South Walnut Street, Milford, DE 19963.
City of Rehoboth Beach | Building and Licensing Department, 306 Rehoboth Avenue, Rehoboth Beach, DE 19971.
City of Seaford | City Hall, 414 High Street, Seaford, DE 19973.
Town of Bethany Beach | Building Inspector's Office, 214 Garfield Parkway, Bethany Beach, DE 19930.
Town of Bethel | Secretary's Residence, 908 West Street, Bethel, DE 19931.
Town of Blades | Town Hall, 20 West Fourth Street, Blades, DE 19973.
Town of Bridgeville | Town Hall, 101 North Main Street, Bridgeville, DE 19933.
Town of Dagsboro | Town Hall, 33134 Main Street, Dagsboro, DE 19939.
Town of Dewey Beach | Town Hall, 105 Rodney Avenue, Dewey Beach, DE 19971.
Town of Fenwick Island | Building Department, 800 Coastal Highway, Fenwick Island, DE 19944.
Town of Greenwood | Town Hall, 100 West Market Street, Greenwood, DE 19950.
Town of Henlopen Acres | Henlopen Acres Town Hall, 104 Tidewater Road, Rehoboth Beach, DE 19971.
Town of Laurel | Code Enforcement Office, 201 Mechanic Street, Laurel, DE 19956.
Town of Millsboro | Town Center, 322 Wilson Highway, Millsboro, DE 19966.
Town of Millville | Town Hall, 36404 Club House Road, Millville, DE 19967.
Town of Milton | Town Hall, 115 Federal Street, Milton, DE 19968.
Town of Ocean View | Wallace A. Melson Municipal Building, 201 Central Avenue, 2nd Floor, Ocean View, DE 19970.
Town of Slaughter Beach | Town Office, 357 Bay Avenue, Slaughter Beach, DE 19963.
Town of South Bethany | Town Hall, 402 Evergreen Road, South Bethany, DE 19930.
Unincorporated Areas of Sussex County | Sussex County Planning and Zoning Department, 2 The Circle, Georgetown, DE 19947.
Anne Arundel County, Maryland, and Incorporated Areas
Maps Available for Inspection Online at: http://www.fema.gov/preliminaryfloodhazarddata
City of Annapolis | Department of Neighborhood and Enivornmental Programs, 145 Gorman Street, Annapolis, MD 21401.
Town of Highland Beach | Town Hall, 3243 Walnut Drive, Highland Beach, MD 21403.
Unincorporated Areas of Anne Arundel County | Anne Arundel County Department of Inspections and Permits, 2664 Riva Road, Annapolis, MD 21401.
Caroline County, Maryland, and Incorporated Areas
Maps Available for Inspection Online at: http://www.fema.gov/preliminaryfloodhazarddata
Town of Denton | Municipal Offices Building, 13 North 3rd Street, Denton, MD 21629.
Town of Federalsburg | Town Hall, 118 North Main Street, Federalsburg, MD 21632.
Town of Goldsboro | Town Hall, 505 Old Town Road, Goldsboro, MD 21636.
Town of Greensboro | Town Hall, 111 South Main Street, Greensboro, MD 21639.
Town of Henderson | Town Hall, 318 Henderson Road, Henderson, MD 21640.
Town of Hillsboro | Town of Hillsboro, 22043 Church Street, Hillsboro, MD 21641.
Town of Preston | Town Hall, 105 Backlanding Road, Preston, MD 21655.
Unincorporated Areas of Caroline County | Caroline County Department of Planning and Codes, Health & Public Services Building, 403 South 7th Street, Suite 210, Denton, MD 21629.
Charles County, Maryland, and Incorporated Areas
Maps Available for Inspection Online at: http://www.fema.gov/preliminaryfloodhazarddata
Town of Indian Head | Town Hall, 4195 Indian Head Highway, Indian Head, MD 20640.
Unincorporated Areas of Charles County | Charles County Department of Planning and Growth Management, 200 Baltimore Street, La Plata, MD 20646.
Somerset County, Maryland, and Incorporated Areas
Maps Available for Inspection Online at: http://www.fema.gov/preliminaryfloodhazarddata
City of Crisfield | City Hall, 319 West Main Street, Crisfield, MD 21817.
Town of Princess Anne | Town Hall, 30489 Broad Street, Princess Anne, MD 21853.
Unincorporated Areas of Somerset County | Somerset County Department of Technical and Community Services, 11916 Somerset Avenue, Suite 211, Princess Anne, MD 21853.
Centre County, Pennsylvania (All Jurisdictions)
Maps Available for Inspection Online at: http://www.fema.gov/preliminaryfloodhazarddata
Township of Benner | Benner Township Office, 1224 Buffalo Run Road, Bellefonte, PA 16823.
Essex County, Virginia, and Incorporated Areas
Maps Available for Inspection Online at: http://www.fema.gov/preliminaryfloodhazarddata
Town of Tappahannock | Town Office, 915 Church Lane, Tappahannock, VA 22560.
Unincorporated Areas of Essex County | Essex County Building and Zoning Department, 202 South Church Lane, Tappahannock, VA 22560.
Northumberland County, Virginia (All Jurisdictions)
Maps Available for Inspection Online at: http://www.fema.gov/preliminaryfloodhazarddata
Northumberland County (All Jurisdictions) | Northumberland County Building and Zoning Department, 72 Monument Place, Heathsville, VA 22473.
Richmond County, Virginia, and Incorporated Areas
Maps Available for Inspection Online at: http://www.fema.gov/preliminaryfloodhazarddata
Unincorporated Areas of Richmond County | Richmond County Administrator's Office, 101 Court Circle, Warsaw, VA 22572.
Surry County, Virginia, and Incorporated Areas
Maps Available for Inspection Online at: http://www.fema.gov/preliminaryfloodhazarddata
Town of Claremont | Municipal Building, 4115 Spring Grove Road, Claremont, VA 23899.
Unincorporated Areas of Surry County | Surry County Government Center, 45 School Street, Surry, VA 23883.
Westmoreland County, Virginia, and Incorporated Areas
Maps Available for Inspection Online at: http://www.fema.gov/preliminaryfloodhazarddata
Town of Colonial Beach | Building and Zoning Office, 905 McKinney Boulevard, Colonial Beach, VA 22443.
Unincorporated Areas of Westmoreland County | Westmoreland County Land Use Administration, 111 Polk Street, Montross, VA 22520.
York County, Virginia, and Incorporated Areas
Maps Available for Inspection Online at: http://www.fema.gov/preliminaryfloodhazarddata
Unincorporated Areas of York County | York County Computer Support Services, 120 Alexander Hamilton Boulevard, Yorktown, VA 23690.

(Catalog of Federal Domestic Assistance No. 97.022, “Flood Insurance.”)

Dated: November 20, 2013.
Roy E. Wright,
Deputy Associate Administrator for Mitigation, Department of Homeland Security, Federal Emergency Management Agency.

[FR Doc. 2013-30506 Filed 12-20-13; 8:45 am]

BILLING CODE 9110-12-P